DEPARTMENT OF COMMERCE

International Trade Administration

Request for Comment: Proposed Topics for U.S.-Brazil Commercial Dialogue Agenda

AGENCY: International Trade Administration (ITA), Department of Commerce (DOC).

ACTION: Request for comment.

SUMMARY: This notice requests input on proposed topics for the agenda of the 22nd Plenary of the U.S.-Brazil Commercial Dialogue (Dialogue), taking place on September 19, 2024. In 2006, the Governments of the United States and Brazil established the Dialogue with the purpose of working together to prevent, reduce and remove non-tariff barriers to trade.

DATES: In order to be considered in advance of Dialogue, comments should be received by July 31, 2024. Comments received after that date will be evaluated for future discussions.

ADDRESSES: Comments should be submitted by email to brazildesk@trade.gov.

FOR FURTHER INFORMATION CONTACT: Maria Cameron, maria.cameron@trade.gov, 202 482-0475; Office of Latin America & the Caribbean, U.S. Department of Commerce.

SUPPLEMENTARY INFORMATION: The Dialogue was established by a Letter of Intent between the U.S. Department of Commerce (Commerce) and the Brazilian Ministry of Development, Industry and Foreign Trade (MDIC) on June 6, 2006, which was intended to guide commercial cooperation between the two Ministries. The Dialogue is the mechanism through which Commerce and MDIC work together to prevent, reduce and remove non-tariff barriers to trade in order to foster increased bilateral trade and investment. The Dialogue does this through a working group structure and organizes regular information exchanges between technical experts.

Following the 21st Plenary of the U.S.-Brazil Commercial Dialogue in November 2023, Commerce and MDIC issued a Joint Statement which noted the Dialogue maintains its overarching intention to:

• Support the implementation of the U.S.-Brazil Protocol on Trade Rules and Transparency;

• Foster an environment for ongoing and future cooperation;

• Support both countries' efforts to enhance resilient supply chains; and

• Remain engaged with the private sector and other stakeholders.

Currently the Dialogue is made up of working groups which address topics including but not limited to:

• Good regulatory practices;

• Standards, metrology and conformity assessment;

• Trade in the digital economy;

• Customs and trade facilitation;

• Trade and sustainable development.

Commerce will use the information gathered in this request for comment to develop proposed topics for the Dialogue agenda.

More information about the Dialogue can be found at: https://www.trade.gov/brazil-us-brazil-commercial-dialogue.

Alexander Peacher,
Director.

[FR Doc. 2024-12105 Filed 5-31-24; 8:45 am]

BILLING CODE 3510-FP-P